DEPARTMENT OF LABOR

Employment and Training Administration

[TA-W-70,541]

Samuel Aaron, Inc., Long Island City, NY; Notice of Negative Determination Regarding Application for Reconsideration

By application dated January 12, 2010, a petitioner requested administrative reconsideration of the Department's negative determination regarding eligibility to apply for Trade Adjustment Assistance (TAA), applicable to workers and former workers of the subject firm. The denial notice was signed on December 7, 2009 and the Notice of Determination was published in the Federal Register on January 25, 2010 (75 FR 3932).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition filed on behalf of workers at Samuel Aaron, Inc., Long Island City, New York was based on the finding that imports of services like or directly competitive with services provided by workers of the subject firm did not contribute to worker separations at the subject firm during the relevant period and no shift in services to a foreign source occurred. The subject firm did not import nor acquire services from a foreign country and did not shift the provision of these services to a foreign country during the relevant period.

The petitioner stated in the request for reconsideration that a shift in labor overseas was the reason behind worker separations at the subject facility.

The investigation revealed that workers of the subject firm were engaged in distribution and warehousing services of jewelry during the relevant period. Samuel Aaron, Inc., did not import these services, nor shift/acquired provision of these services to/from a foreign country during the relevant period. Therefore, criteria II.A. and II.B. of Section 222(a) of the Act were not met.

Furthermore, with the respect to Section 222(c) of the Act, the investigation revealed that criterion 2 was not met because the workers did not supply a service that was used by a firm with TAA-certified workers in the production of an article or supply of a service that was a basis for TAA certification.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 28th day of January 2010.
Del Min Amy Chen,
Certifying Officer, Division of Trade Adjustment Assistance.

[FR Doc. 2010-3013 Filed 2-12-10; 8:45 am]

BILLING CODE 4510-FN-P